DEPARTMENT OF TRANSPORTATION

Federal Aviation Administration

14 CFR Part 39

[Docket No. FAA-2008-0430; Directorate Identifier 2007-SW-42-AD]

RIN 2120-AA64

Airworthiness Directives; Eurocopter France Model AS332 C, L, L1, and L2 Helicopters

AGENCY: Federal Aviation Administration (FAA), DOT.

ACTION: Notice of proposed rulemaking (NPRM).

SUMMARY: We propose to adopt a new airworthiness directive (AD) for the specified Eurocopter France (ECF) model helicopters. This proposed AD results from mandatory continuing airworthiness information (MCAI) originated by an aviation authority of another country to identify and correct an unsafe condition on an aviation product. The aviation authority of France, with which we have a bilateral agreement, states in the MCAI:

This Airworthiness Directive (AD) is issued following two cases of LH hydraulic power system loss on two AS332 helicopters. In both cases, the pilot received the “low level” hydraulic failure alarm. The investigations conducted on the two helicopters revealed a hydraulic fluid leak from the hydraulic pump casing.

In both cases, incorrect position of the liner of the compensating piston had caused the seals to deteriorate. This incorrect positioning of the liner is due to non-compliant application of the repair process by a repair station.

Deterioration of hydraulic pumps causes:

—The loss of the RH and LH hydraulic power systems in the event of a substantial hydraulic fluid leak from both hydraulic pumps during a given flight.

—The loss of the hydraulic system concerned, in the event of a substantial hydraulic fluid leak from only one pump.

The proposed AD would require actions that are intended to address this unsafe condition.

DATES: We must receive comments on this proposed AD by May 22, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket: You may examine the AD docket on the Internet at http://www.regulations.gov or in person at the Docket Operations office between 9 a.m. and 5 p.m., Monday through Friday, except Federal holidays. The AD docket contains this proposed AD, the economic evaluation, any comments received, and other information. The street address for the Docket Operations office (telephone (800) 647-5527) is in the ADDRESSES section. Comments will be available in the AD docket shortly after receipt.

FOR FURTHER INFORMATION CONTACT: Uday Garadi, Aviation Safety Engineer, FAA, Rotorcraft Directorate, Regulations and Guidance Group, Fort Worth, Texas 76193-0110, telephone (817) 222-5123, fax (817) 222-5961.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decisionmaking responsibilities to identify and correct unsafe conditions on U.S.-certificated products.

This proposed AD references the MCAI and related service information that we considered in forming the engineering basis to correct the unsafe condition. The proposed AD contains text copied from the MCAI and for this reason might not follow our plain language principles.

Comments Invited

We invite you to send any written relevant data, views, or arguments about this proposed AD. Send your comments to an address listed under the ADDRESSES section. Include “Docket No. FAA-2008-0430; Directorate Identifier 2007-SW-42-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The Direction Generale de L'Aviation Civile (DGAC), the aviation authority for France, has issued French Airworthiness Directive No. F-2007-010, dated September 12, 2007 (referred to after this as “the MCAI”), to correct an unsafe condition for this French-certificated product. The MCAI states:

This Airworthiness Directive (AD) is issued following two cases of LH hydraulic power system loss on two AS332 helicopters. In both cases, the pilot received the “low level” hydraulic failure alarm. The investigations conducted on the two helicopters revealed a hydraulic fluid leak from the hydraulic pump casing.

In both cases, incorrect position of the liner of the compensating piston had caused the seals to deteriorate. This incorrect positioning of the liner is due to non-compliant application of the repair process by a repair station.

Deterioration of hydraulic pumps causes:

—The loss of the RH and LH hydraulic power systems in the event of a substantial hydraulic fluid leak from both hydraulic pumps during a given flight.

—The loss of the hydraulic system concerned, in the event of a substantial hydraulic fluid leak from only one pump.

You may obtain further information by examining the MCAI and service information in the AD docket.

Relevant Service Information

Eurocopter France has issued Alert Service Bulletin No. 01.00.73, dated August 23, 2007 (ASB). The actions described in the MCAI are intended to correct the same unsafe condition as that identified in the ASB.

FAA's Determination and Proposed Requirements

This product has been approved by the aviation authority of France and is approved for operation in the United States. Pursuant to our bilateral agreement with this State of Design Authority, we have been notified of the unsafe condition described in the MCAI and service information. We are proposing this AD because we evaluated all pertinent information and determined an unsafe condition exists and is likely to exist or develop on other products of the same type design.

Differences Between This AD and the MCAI

We have reviewed the MCAI and related service information and, in general, agree with their substance. However, we have made the following changes:

• We do not require the operator to return the hydraulic pump to the manufacturer nor any action on non-installed hydraulic pumps.

• We changed “flying hours” to “hours time-in-service.”

In making these changes, we do not intend to differ substantively from the information provided in the MCAI. These differences are highlighted in the “Differences Between the FAA and the MCAI” section in the proposed AD.

Costs of Compliance

We estimate that this proposed AD would affect 4 helicopters of U.S. registry. We also estimate that it would take 2.5 work-hours to inspect and replace one hydraulic pump. The average labor rate is $80 per work-hour. Each pump would cost about $26,000 and require two hydraulic pumps per helicopter. Based on these figures, we estimate the cost of the proposed AD on U.S. operators to be $209,600 to replace all the hydraulic pumps on the U.S. fleet.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Eurocopter France: Docket No. FAA-2008-0430; Directorate Identifier 2007-SW-42-AD.

Comments Due Date

(a) We must receive comments by May 22, 2008.

Other Affected ADs

(b) None.

Applicability

(c) This AD applies to Models AS332C, L, L1, and L2 helicopters, with a hydraulic pump made by Messier-Bugatti, part number C24160-X, C24160-XXX, C241600XX, C241600XX-X, and C241600XX-XXX, with a serial number without the suffix letter “V”, listed in paragraph 1.A.1., of Eurocopter France Emergency Alert Service Bulletin 01.00.73, dated August 23, 2007 (ASB) installed, certificated in any category.

Note: The letter “V” is a suffix marked after the serial number on the pump's identification plate to signify that the pump has been determined to conform to the approved design data.

Reason

(d) The mandatory continuing airworthiness information (MCAI) states:

This Airworthiness Directive (AD) is issued following two cases of LH hydraulic power system loss on two AS332 helicopters. In both cases, the pilot received the “low level” hydraulic failure alarm. The investigations conducted on the two helicopters revealed a hydraulic fluid leak from the hydraulic pump casing.

In both cases, incorrect position of the liner of the compensating piston had caused the seals to deteriorate. This incorrect positioning of the liner is due to non-compliant application of the repair process by a repair station.

Deterioration of hydraulic pumps causes:

—The loss of the RH and LH hydraulic power systems in the event of a substantial hydraulic fluid leak from both hydraulic pumps during a given flight.

—The loss of the hydraulic system concerned, in the event of a substantial hydraulic fluid leak from only one pump.

Actions and Compliance

(e) Unless already done, do the following actions:

(1) Within 15 hours time-in-service (TIS), determine the part number and serial number of the installed hydraulic pumps. If the serial numbers of both the hydraulic pumps are listed in paragraph 1.A.1. of the ASB, before further flight, replace at least one of the pumps with an airworthy pump with a serial number other than one listed in paragraph 1.A.1. of the ASB or one with a serial number containing the letter “V”. Replace the pump by following the Accomplishment Instructions, paragraph 2.B. of the ASB, except this AD does not require you to return the hydraulic pump to the manufacturer.

(2) Within the next 12 months, replace all remaining hydraulic pumps having a serial number listed in paragraph 1.A.1. of the ASB by following the Accomplishment Instructions, paragraph 2.B. of the ASB, except this AD does not require you to return the hydraulic pump to the manufacturer.

Differences Between the FAA AD and the MCAI

(f) We do not require the operator to return the hydraulic pump to the manufacturer nor do we require any action on non-installed hydraulic pumps. Also, we changed “flying hours” to “hours time-in-service.”

Subject

(g) Air Transport Association of America (ATA) Code: 2913 Hydraulic Pump.

Other Information

(h) The following provisions also apply to this AD:

(1) Alternative Methods of Compliance (AMOCs): The Manager, Safety Management Group, FAA, has the authority to approve AMOCs for this AD, if requested, using the procedures found in 14 CFR 39.19. Send information to ATTN: Uday Garadi, Aviation Safety Engineer, Rotorcraft Directorate, Regulations and Guidance Group, Fort Worth, Texas 76193-0110, telephone (817) 222-5123, fax (817) 222-5961.

(2) Airworthy Product: Use only FAA-approved corrective actions. Corrective actions are considered FAA-approved if they are approved by the State of Design Authority (or their delegated agent) if the State of Design has an appropriate bilateral agreement with the United States. You are required to assure the product is airworthy before it is returned to service.

(3) Reporting Requirements: For any reporting requirement in this AD, under the provisions of the Paperwork Reduction Act, the Office of Management and Budget (OMB) has approved the information collection requirements and has assigned OMB Control Number 2120-0056.

Related Information

(i) MCAI Airworthiness Directive No. F-2007-010, dated September 12, 2007, contains related information.

Issued in Fort Worth, Texas, on April 3, 2008.
Mark R. Schilling,
Acting Manager, Rotorcraft Directorate, Aircraft Certification Service.

[FR Doc. E8-8641 Filed 4-21-08; 8:45 am]

BILLING CODE 4910-13-P